SECURITIES AND EXCHANGE COMMISSION

Sunshine Act Meetings

FEDERAL REGISTER CITATION OF PREVIOUS ANNOUNCEMENT: 85 FR 69375, 2 November 2020.

PREVIOUSLY ANNOUNCED TIME AND DATE OF THE MEETING: Wednesday, November 4, 2020 at 2:00 p.m.

CHANGES IN THE MEETING: The following item will not be considered during the Open Meeting on Wednesday, November 4, 2020:

2. The Commission will consider whether to issue an order granting exemptive relief from Sections 8 and 15(a)(1) of the Securities Exchange Act of 1934 and Rules 3b-13(b)(2), 8c-1, 10b-10, 15a-1 and 15c2-1 thereunder in connection with the revision of the definition of “security” to encompass security-based swaps; declining to extend exemptive relief from Rules 10b-16 and 15c2-5; and determining the expiration date for a temporary exemption from Section 29(b) of the Securities Exchange Act of 1934 in connection with registration of security-based swap dealers and major security-based swap participants.

CONTACT PERSON FOR MORE INFORMATION: For further information and to ascertain what, if any, matters have been added, deleted or postponed, please contact Vanessa A. Countryman from the Office of the Secretary at (202) 551-5400.

Dated: November 2, 2020.
Vanessa A. Countryman,
Secretary.

[FR Doc. 2020-24613 Filed 11-2-20; 4:15 pm]

BILLING CODE 8011-01-P